DEPARTMENT OF HEALTH AND HUMAN SERVICES

Health Resources and Services Administration

Notice of Availability of Final Policy Guidance

AGENCY: Health Resources and Services Administration, HHS.

ACTION: Final Agency Guidance and Response to Public Comments.

DATES: The effective date of this final Agency guidance is August 22, 2007.

SUMMARY: The Health Resources and Services Administration (HRSA) is publishing a final Agency Guidance (“Policy Information Notice” (PIN) 2007-15) to provide guidance on emergency management expectations for health centers to assist them in planning and preparing for future emergencies through the development and maintenance of an effective and appropriate emergency management strategy. The PIN, “Health Center Emergency Management Program Expectations,” and the Agency's “Response to Public Comments” are available on the Internet at http://bphc.hrsa.gov/policy/pin0715.

Background: HRSA administers the Health Center Program, which supports more than 3,800 health care delivery sites, including community health centers, migrant health centers, health care for the homeless centers, and public housing primary care centers. Health centers serve clients that are primarily low-income and minorities, and deliver comprehensive, culturally competent, quality primary health care services to patients regardless of their ability to pay. Charges for health care services are set according to income.

On February 27, 2007, HRSA made the draft PIN available for public comment on HRSA's Web site. The purpose of the PIN was to provide guidance on emergency management expectations for health centers to assist them in planning and preparing for future emergencies. Comments were due to HRSA by April 13, 2007.

Comments were received from 31 organizations and/or individuals. After review and careful consideration of all comments received, HRSA amended the PIN to incorporate certain recommendations from the public. The final PIN reflects these changes.

In addition to making the final PIN available on HRSA's Web site, HRSA is also posting the Agency's “Response to Public Comments.” The purpose of the document is to summarize the major comments received and describe the Agency's response, including any corresponding changes made to the PIN. Where comments did not result in a revision to the PIN, explanations are provided.

FOR FURTHER INFORMATION CONTACT: Please contact the Office of Policy and Program Development at (301) 594-4300 for any questions regarding this PIN.

Dated: September 14, 2007.
Elizabeth M. Duke,
Administrator.

[FR Doc. E7-18560 Filed 9-19-07; 8:45 am]

BILLING CODE 4165-15-P